PEACE CORPS

Information Collection Request Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995.

DATES: Submit comments on or before May 30, 2017.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@peacecorps.gov.

SUPPLEMENTARY INFORMATION:

Title: Onboarding.

OMB Control Number: 0420-xxxx.

Type of Request: New.

Affected Public: Individuals.

Respondents Obligation to Reply: Voluntary.

Respondents: Peace Corps Volunteers.

Burden to the Public:

Estimated burden (hours) of the collection of information:

a. Number of respondents: 5,000.

b. Frequency of response: One time.

c. Completion time: 60 minutes.

d. Annual burden hours: 5,000 hours.

General Description of Collection: The Peace Corps uses the Onboarding Portal to collect essential administrative information from invitees for use during volunteer service, including information such as emergency contacts, legal history updates, direct deposit instructions, and life insurance designations. The information is used by the Peace Corps to establish specific services for invitees for the purposes of supporting the volunteer during service.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on April 25, 2017.
Denora Miller,
FOIA/Privacy Act Officer, Management.

[FR Doc. 2017-08634 Filed 4-27-17; 8:45 am]

BILLING CODE 6051-01-P